DEPARTMENT OF HEALTH AND HUMAN SERVICES

Centers for Disease Control and Prevention

Advisory Committee for Injury Prevention and Control; Notice of Recharter

This gives notice under the Federal Advisory Committee Act (Pub. L. 92-463) of October 6, 1972, that the Advisory Committee for Injury Prevention and Control, National Center for Injury Prevention and Control, of the Department of Health and Human Services, has been renewed for a 2-year period extending through October 28, 2006.

FOR FURTHER INFORMATION CONTACT: Louise Galaska, Executive Secretary, ACIPC, CDC, 4770 Buford Hwy, M/S K02, Atlanta, Georgia 30333. Telephone (770) 488-4694, fax (770) 488-4422.

The Director, Management Analysis and Services Office, has been delegated the authority to sign Federal Register notices pertaining to announcements of meetings and other committee management activities, for both CDC and the Agency for Toxic Substances and Disease Registry.

Dated: November 5, 2004.
Alvin Hall,
Director, Management Analysis and Services Office, Centers for Disease Control and Prevention.

[FR Doc. 04-25185 Filed 11-10-04; 8:45 am]

BILLING CODE 4163-19-P